EXECUTIVE OFFICE OF THE PRESIDENT

National Space Council

Notice of In-space Authorization and Supervision Policy Listening Sessions; Request for Comments

AGENCY: National Space Council, Executive Office of the President (EOP).

ACTION: Notice; request for comments.

SUMMARY: On 9 September 2022, Vice President Kamala Harris, Chair of the National Space Council, requested Council Members to provide “a proposal for the authorization and supervision of commercial novel space activities within 180 days[.]” The White House National Space Council in the Executive Office of the President is organizing a series of virtual 2 hour listening sessions to engage with members of the public and learn about novel space capabilities and innovative missions, experiences with United States regulatory bodies, and approaches to mission authorization and supervision that can evolve over time.

DATES:

1. Novel Space Capabilities:

Monday, 14 November 2022 1 to 3 p.m. ET

2. Approaches for Authorization & Supervision:

Monday, 21 November 2022 1 to 3 p.m. ET

Registration deadlines:

1. Novel Space Capabilities:

Sunday, 13 November 2022 11:59 a.m. ET

2. Approaches for Authorization & Supervision:

Sunday, 20 November 2022 11:59 a.m. ET

Written comments regarding these topics are not necessary but invited and must be received within 45 days of this publication.

ADDRESSES: Register for a virtual listening session using the session-specific links below:

Novel Space Capabilities: https://pitc.zoomgov.com/meeting/register/vJIsd-Gurj4tGy6OkzdSEGbJGjshsVTsoqI

Approaches to Authorization & Supervision: https://pitc.zoomgov.com/meeting/register/vJIsf-CtrjooEzU71B_fF2SeAksTFKshLyY

Please send written comments to Diane Howard at MBX.NSpC.IASP@ovp.eop.gov

FOR FURTHER INFORMATION CONTACT: Diane Howard at MBX.NSpC.IASP@ovp.eop.gov or by calling 202.456.7831.

SUPPLEMENTARY INFORMATION: Perspectives gathered during the virtual listening sessions will inform the National Space Council as it develops a whole-of-government framework that provides a clear, predictable, and flexible process in furtherance of the United States Space Priorities Framework (December 2021) which states that “U.S regulations must provide clarity and certainty for the authorization and supervision of non-governmental space activities, including for novel activities such as on-orbit services, orbital debris removal, space-based manufacturing, commercial human spaceflight, and recovery and use of space resources.”

Novel activities relate to those missions/activities that are not directly reviewed under existing regulatory regimes, including assembly and manufacturing, mining, and fueling stations. Participants are invited to share information about their missions—the different phases from cradle to grave as well the multiple aspects of these phases. i.e. the communications aspect, role of imagery in operations, in-space safety protocols such as conjunction assessment and collision avoidance, and any others participants believe are appropriate to be considered.

Pursuant to Executive Order 14056 and Title V of Public Law 100-685, National Space Council is soliciting public input through these virtual listening sessions to obtain information and recommendations from a wide array of stakeholders, including representatives from diverse industries, academia, other relevant organizations and institutions, and the general public. Virtual listening sessions will inform National Space Council Members as they develop applicable national space policy as described herein.

The virtual listening sessions will each focus on a specific theme, as described below:

1. Session on Novel Space Capabilities: 14 November 2022, 1 to 3 p.m. ET

Commercial spaceflight technologies in the United States have matured significantly over the last decade. As a direct result, the Unites States commercial space sector has begun to engage in a range of new activities in outer space and is planning for many more. Some of these activities are novel in and of themselves, others are novel because of who performs them or where, while still others are novel combinations of more established activities.

In the United States Space Priorities Framework (SPF), the Biden-Harris Administration highlighted the importance of an enabling policy and regulatory environment to the nation's innovation ecosystem and its thriving economic development.

U.S. regulations must provide clarity and certainty for the authorization and continuing supervision of non-governmental space activities, including for novel activities such as on-orbit servicing, orbital debris removal, space-based manufacturing, commercial human spaceflight, and recovery and use of space resources.

2. Session on Approaches for Authorization & Supervision: 21 November 2022, 1 to 3 p.m. ET

Article VI of the Outer Space Treaty obligates the United States to authorize and provide continuous supervision for the space activities of its non-governmental entities. Authorization refers to governmental permission to perform a mission or activity and supervision means ongoing governmental oversight of some sort or degree sufficient to ensure consistency with the Outer Space Treaty. The goal is a clear, predictable, and flexible regulatory and policy environment for private sector space activities that will grow and evolve in response to technological advancement and enable continued sustainability of the space environment. This requires understanding of the operational phase of these missions.

Participants are invited to share information about their experiences and opinions about obtaining authorization to perform their current and planned activities and if/how these activities are being supervised, if current, and ideas for supervision of planned missions, to include incentives, monitoring, reporting, and others.

Speakers will have 3 minutes each to present comments and participants will be allowed to provide further details and perspectives in written format within 45 days of this publication.

Diane Howard,
Director of Commercial Space Policy, National Space Council.

[FR Doc. 2022-22413 Filed 10-13-22; 11:15 am]

BILLING CODE 3395-F2-P